DEPARTMENT OF ENERGY

Federal Energy Regulatory Commission

[Docket No. EG02-96-000, et al.]

Backbone Mountain Windpower LLC, et al.; Electric Rate and Corporate Regulation Filings

February 22, 2002.

Take notice that the following filings have been made with the Commission. Any comments should be submitted in accordance with Standard Paragraph E at the end of this notice.

1. Backbone Mountain Windpower LLC

[Docket No. EG02-96-000]

Take notice that on February 19, 2002, Backbone Mountain Windpower LLC (Backbone Mountain) filed with the Federal Energy Regulatory Commission (Commission) an Application for Determination of Exempt Wholesale Generator Status pursuant to part 365 of the Commission's regulations.

Ba0ckbone Mountain is developing a wind-powered eligible facility with a capacity of between 55.8 and 75.6 megawatts, which will be located in Tucker and Preston Counties, West Virginia

Comment Date: March 15, 2002.

2. ISO New England Inc

[Docket No. EL00-62-042]

Take notice that on February 15, 2002, ISO New England Inc. tendered for filing with the Federal Energy Regulatory Commission (Commission) its compliance report pursuant to the Commission's order issued on February 1, 2002 in this proceedings.

Copies of said filing have been served upon all parties to this proceeding and electronically upon the New England Power Pool participants.

Comment Date: March 8, 2002.

3. New York Independent System Operator, Inc.

[Docket Nos. ER01-3009-004, ER01-3153-004, and EL00-90-004]

Take notice that on February 20, 2002, the New York Independent System Operator, Inc. (NYISO) tendered for filing with the Federal Energy Regulatory (Commission) a compliance filing in accordance with the Commission's January 31, 2002, order in the above-captioned proceedings.

A copy of this filing was served upon all signatories to the OATT and Services Tariff and upon all persons designated on the official service lists compiled by the Secretary in the above-captioned proceedings.

Comment Date: March 13, 2002.

4. Virginia Electric and Power Company

[Docket No. ER02-1036-000]

Take notice that on February 19, 2002,Virginia Electric and Power Company (the Company) respectfully tendered for filing the following Service Agreement by Virginia Electric and Power Company to Borough of Tarentum designated as Service Agreement No. 12 under the Company's Wholesale Market-Based Rate Tariff, FERC Electric Tariff, Original Volume No. 6, effective on June 15, 2000.

The Company requests an effective date of January 18, 2002, as requested by the customer. Copies of the filing were served upon Borough of Tarentum, the Virginia State Corporation Commission, and the North Carolina Utilities Commission.

Comment Date: March 12, 2002.

5. UAE Mecklenburg Cogeneration LP

[Docket No. QF89-339-005]

Take notice that on February 13, 2002, UAE Mecklenburg Cogeneration LP (the Applicant) tendered for filing with the Federal Energy Regulatory Commission (Commission), an amendment to the Application for Commission Recertification of a Cogeneration Facility as a Qualifying Facility.

Comment Date: March 4, 2002.

6. Midwest Independent Transmission System Operator, Inc.

[Docket No. ER02-107-002]

Take notice that on February 20, 2002, the Midwest Independent Transmission System Operator, Inc. (Midwest ISO) tendered for filing with the Federal Energy Regulatory Commission (Commission), pursuant to Section 205 of the Federal Power Act (FPA), 16 USC 824d (2000) and Section 385.205 of the Commission's regulations, 18 CFR 385.205 (2001), proposed revisions to the Midwest ISO Agreement of the Transmission Facilities Owners To Organize The Midwest Independent Transmission System Operator, Inc. (Midwest ISO Agreement), First Revised Rate Schedule FERC No. 1. This filing corrects a pagination error in the Midwest ISO's February 12, 2002, filing of its expedited Alternative Dispute Resolution plan and substitutes “party” in place of “customer.”

The Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: March 13, 2002.

7. American Transmission Company LLC

[Docket No. ER02-467-001]

Take notice that on February 21, 2002, American Transmission Company LLC (ATCLLC) tendered for filing with the Federal Energy Regulatory Commission (Commission) a Revised Service Agreement No. 213 in compliance with the Commission's January 25, 2002 order stating such Agreement would be accepted upon re-filing in conformance with Order 614. ATCLLC requests an effective date of November 28, 2001.

Comment Date: March 14, 2002.

8. Progress Energy on behalf of Carolina Power & Light Company

[Docket No. ER02-1037-000]

Take notice that on February 19, 2002, Carolina Power & Light Company (CP&L) tendered for filing a Service Agreement for Firm Point-to-Point Transmission Service with Reliant Energy Services, Inc. Service to this Eligible Customer will be in accordance with the terms and conditions of the Open Access Transmission Tariff filed on behalf of CP&L.

CP&L is requesting an effective date of March 31, 2002 for this Service Agreement. A copy of the filing was served upon the North Carolina Utilities Commission, the South Carolina Public Service Commission and the Florida Public Service Commission.

Comment Date: March 12, 2002.

9. Duke Energy Mohave, LLC

[Docket No. ER02-1038-000]

Take notice that on February 19, 2002, Duke Energy Mohave, LLC (Duke Mohave) submitted for filing for informational purposes pursuant to Section 205 of the Federal Power Act an executed service agreement under Duke Mohave's market-based rate tariff pursuant to which it sells power at wholesale to Duke Energy Trading and Marketing, LLC.

Comment Date: March 12, 2002.

10. Statoil Energy Trading, Inc.

[Docket No. ER02-1039-000]

Take notice that on February 19, 2002, Statoil Energy Trading, Inc. tendered for filing a notice of cancellation of its Rate Schedule FERC No. 1.

Comment Date: March 12, 2002.

11. Griffith Energy LLC

[Docket No. ER02-1040-000]

Take notice that on February 19, 2002, Griffith Energy LLC (Griffith Energy) filed Service Agreement No. 1 under Griffith Energy's FERC Electric Tariff Original Volume No.1. The service agreement is a long term agreement entitled as the Operating and Energy Conversion Agreement between Griffith Energy and Duke Energy Mohave LLC (Duke Mohave) and PPL Southwest Generation Holdings LLC (PPL Southwest) and is dated July 11, 2001.

Griffith Energy owns and operates a gas-fired, combined-cycle electric generation plant located in Mohave County, Arizona that has a peak capacity of approximately 600 megawatts (the Facility). PPL Southwest and Duke Mohave are indirect owners of Griffith Energy through their ownership of Griffith Energy's parent—Southwest Power Partners LLC. The term of the Operating and Energy Conversion Agreement is for the life of the Facility and generally provides the commercial and financial terms under which Griffith Energy will make available, and PPL Southwest and Duke Mohave will receive, the output of the Facility. Griffith Energy and the other parties to the agreement are seeking confidential treatment of the entire agreement.

Comment Date: March 12, 2002.

12. Cleco Power LLC

[Docket No. ER02-1041-000]

Take notice that on February 19, 2002 Cleco Power LLC (Cleco Power), tendered for filing with the Federal Energy Regulatory Commission (Commission) a Notice of Cancellation pursuant to 18 CFR 35.15, effective February 18, 2002, canceling Cleco Utility Group, Inc.'s Rate Schedule 2 and all supplements thereto. Cleco Power simultaneously filed essentially the same rate schedule as Cleco Power's Rate Schedule 3. Cleco Power requested an additional 90 days to comply with the Commission's orders in Cleco Power LLC, Docket Nos. ER01-1099-000 and ER01-1099-001, issued March 28, 2001, ER01-1099-002, issued June 18, 2001, ER01-2147-000, issued July 24, 2001 and ER01-3095-000, issued November 20, 2001 instructing Cleco Power to bring its service agreements into compliance with the Commission's Order 614, issued March 31, 2000.

Cleco Power is currently in negotiations with the City of Natchitoches, Louisiana, to amend Cleco Utility Rate Schedule 17. Accordingly, Cleco Power requested additional time to bring Cleco Utility Rate Schedule 17 into compliance with the Commission's Order 614.

Comment Date: March 12, 2002.

13. EWO Marketing, L.P.

[Docket No.ER02-1042-000]

Take notice that on February 19, 2002, EWO Marketing, L.P. tendered for filing a request for authorization to amend its code of conduct in the above-referenced docket pursuant to Section 205 of the Federal Power Act, and part 35 of the Federal Energy Regulatory Commission's Rules and Regulations. Copies of this filing have been served upon each person designated on the official service list compiled by the Secretary in this proceeding.

Comment Date: March 12, 2002.

14. Entergy-Koch Trading, L.P.

[Docket No.ER02-1043-000]

Take notice that on February 19, 2002, Entergy-Koch Trading, L.P. tendered for filing a request for authorization to amend its code of conduct in the above-referenced docket pursuant to Section 205 of the Federal Power Act, and part 35 of the Federal Energy Regulatory Commission's Rules and Regulations. Copies of this filing have been served upon each person designated on the official service list compiled by the Secretary in this proceeding.

Comment Date: March 12, 2002.

15. Duke Energy Corporation

[Docket No. ER02-1044-000]

Take notice that on February 20, 2002, Duke Electric Transmission (Duke), a division of Duke Energy Corporation, tendered for filing with the Federal Energy Regulatory Commission (Commission) a Service Agreement with Progress Ventures, Inc. for Non-Firm Transmission Service under Duke's Open Access Transmission Tariff. Duke requests that the proposed Service Agreement be permitted to become effective on January 30, 2002. Duke states that this filing is in accordance with Part 35 of the Commission's Regulations and that a copy has been served on the North Carolina Utilities Commission.

16. Duke Energy Corporation

[Docket No. ER02-1045-000]

Take notice that on February 20, 2002, Duke Electric Corporation (Duke), a division of Duke Energy Corporation, tendered for filing a Service Agreement with Progress Ventures, Inc. for Firm Transmission Service under Duke's Open Access Transmission Tariff. Duke requests that the proposed Service Agreement be permitted to become effective on January 30, 2002. Duke states that this filing is in accordance with Part 35 of the Commission's Regulations and that a copy has been served on the North Carolina Utilities Commission.

Comment Date: March 13, 2002.

17. LG&E Power Monroe LLC

[Docket No. ER02-1046-000]

Take notice that February 20, 2002, Progress Ventures, Inc., on behalf of LG&E Power Monroe LLC (LG&E Monroe), filed a service agreement for LG&E Energy Marketing Inc. (LEM) under LG&E Monroe's market-based rate tariff.

Copies of the filing were served upon LEM and the Georgia Public Service Commission.

Comment Date: March 13, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4905 Filed 2-28-02; 8:45 am]

BILLING CODE 6717-01-P